DEPARTMENT OF HOMELAND SECURITY

Coast Guard

DEPARTMENT OF TRANSPORTATION

Maritime Administration

[USCG-2005-22611]

Neptune LNG, L.L.C., Liquefied Natural Gas Deepwater Port License Application

AGENCY: Coast Guard, DHS; Maritime Administration, DOT.

ACTION: Notice of application.

SUMMARY: The Coast Guard and the Maritime Administration (MARAD) announce that they have received an application for the licensing of a liquefied natural gas (LNG) deepwater port, and that the application appears to contain the required information. This notice summarizes the applicant's plans and the procedures that will be followed in considering the application.

DATES: The Deepwater Port Act of 1974, as amended, requires any public hearing on this application to be held not later than June 5, 2006, and requires a decision on the application to be made not later than September 5, 2006.

ADDRESSES: The public docket for USCG-2005-22611 is maintained by the: Docket Management Facility, U.S. Department of Transportation, 400 Seventh, Street SW., Washington, DC 20590-0001.

Docket contents are available for public inspection and copying, at this address, in room PL-401, between 9 a.m. and 5 p.m., Monday through Friday, except Federal holidays. The Facility's telephone is 202-366-9329, its fax is 202-493-2251, and its website for electronic submissions or for electronic access to docket contents is http://dms.dot.gov.

FOR FURTHER INFORMATION CONTACT: Mr. Roddy Bachman, U.S. Coast Guard, telephone: 202-267-1752, e-mail: RBachman@comdt.uscg.mil. If you have questions on viewing the docket, call Renee V. Wright, Program Manager, Docket Operations, telephone: 202-493-0402.

SUPPLEMENTARY INFORMATION:

Receipt of Application

On February 17, 2005, the Coast Guard and MARAD received an application from Neptune LNG, L.L.C., a subsidiary of Suez LNG North America L.L.C., for all Federal authorizations required for a license to own, construct, and operate a deepwater port governed by the Deepwater Port Act of 1974, as amended, 33 U.S.C. 1501 et seq. (the Act). Requested supplemental application materials were received on September 7, 2005. On September 30, 2005, we determined that the application contains all information required by the Act.

Background

According to the Act, a deepwater port is a fixed or floating manmade structure other than a vessel, or a group of structures, located beyond State seaward boundaries and used or intended for use as a port or terminal for the transportation, storage, and further handling of oil or natural gas for transportation to any State.

A deepwater port must be licensed by the Secretary of Transportation. Statutory and regulatory requirements for licensing appear in 33 U.S.C. 1501 et seq. and in 33 CFR Part 148. Under delegations from and agreements between the Secretary of Transportation and the Secretary of Homeland Security, applications are processed by the Coast Guard and MARAD. Each application is considered on its merits.

The Act provides strict deadlines for processing an application. Once we determine that an application contains the required information, we must hold public hearings on the application within 240 days, and the Secretary of Transportation must render a decision on the application within 330 days. We will publish additional Federal Register notices to inform you of these public hearings and other procedural milestones, including environmental review. The Secretary's decision, and other key documents, will be filed in the public docket.

At least one public hearing must take place in each adjacent coastal State. For purposes of the Act, Massachusetts is the adjacent coastal State for this application. Other States can apply for adjacent coastal State status in accordance with 33 U.S.C. 1508(a)(2).

Summary of the Application

Neptune LNG, L.L.C. proposes to construct, own and operate a deepwater port, named Neptune, in the Federal waters of the Outer Continental Shelf on blocks NK 19-04 6525 and NK 19-04 6575, approximately 22 miles northeast of Boston, Massachusetts, in a water depth of approximately 250 feet. The Neptune deepwater port would be capable of mooring up to two approximately 140,000 cubic meter capacity LNG carriers by means of a submerged unloading buoy system.

The LNG carriers, or shuttle regasification vessels (SRVs), would be equipped to store, transport and vaporize LNG, and to odorize and meter natural gas which would then be sent out by conventional subsea pipelines. Each SRV carrier would have insulated storage tanks located within its hull. Each tank would be equipped with an in-tank pump to circulate and transfer LNG to the vaporization facilities located on the deck of the SRV. The proposed vaporization system would be closed-loop water-glycol, re-circulating heat exchangers heated by steam from boil-off gas/vaporized LNG-fired boilers.

The major fixed components of the proposed deepwater port would be an unloading buoy system, eight mooring lines consisting of wire rope and chain connecting to anchor points on the seabed, eight suction pile anchor points, approximately 2.5 miles of natural gas flow line with flexible pipe risers and risers manifolds, and approximately 11 miles of 24-inch natural gas transmission line with a hot tap and transition manifold to connect to the existing Algonquin Hubline℠.

Neptune would have an average throughput capacity of 400 million standard cubic feet per day (MMscfd) and a peak capacity of approximately 750 MMscfd. Natural gas would be sent out by means of two flexible risers and a subsea flowline leading to a 24-inch gas transmission line. These risers and flow line would connect the deepwater port to the existing 30-inch Algonquin Hubline℠. No onshore components or storage facilities are associated with the proposed deepwater port application.

Construction of the deepwater port components would be expected to take 36 months, with a startup of commercial operations in late 2009. The deepwater port would be designed, constructed and operated in accordance with applicable codes and standards and would have an expected operating life of approximately 20 years.

Dated: October 4, 2005.
Howard L. Hime,
Acting Director of Standards, Marine Safety, Security, and Environmental Protection, Coast Guard.
H. Keith Lesnick,
Senior Transportation, Specialist, Deepwater Ports Program Manager, Maritime Administration.

[FR Doc. 05-20278 Filed 10-6-05; 8:45 am]

BILLING CODE 4910-15-P